DEPARTMENT OF TRANSPORTATION

Federal Aviation Administration

[Summary Notice No. PE-2001-70]

Petitions for Exemption; Summary of Dispositions of Petitions Issued

AGENCY: Federal Aviation Administration (FAA), DOT.

ACTION: Notice of disposition of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on September 18, 2001.
Richard McCurdy,
Acting, Assistant Chief Counsel for Regulations.

Dispositions of Petitions

Docket No.: FAA-2001-10263.

Petitioner: Wisconsin Aviation, Inc.

Section of 14 CFR Affected: 14 CFR 135.143(c)(2).

Description of Relief Sought/Disposition: To permit Wisconsin Aviation to operate certain aircraft under part 135 without a TSO-C112 (Mode S) transponder installed in the aircraft. Grant, 08/21/2001, Exemption No. 7612.

Docket No.: FAA-2001-9727 (previously Docket No. 27441).

Petitioner: Department of the Army.

Section of 14 CFR Affected: 14 CFR 45.29(b)(3).

Description of Relief Sought/Disposition: To permit the Army to use 9-inch aircraft nationality and registration markings in lieu of 12-inch markings on its Bell Model 206B3 rotorcraft. Grant, 08/21/2001, Exemption No. 5761C.

Docket No.: FAA-2001-9793.

Petitioner: Taunton Airport Association, Inc.

Section of 14 CFR Affected: 14 CFR 135.251, 135.353, and appendixes I and J to part 121.

Description of Relief Sought/Disposition: To permit TAA to conduct local sightseeing flights at the Taunton Municipal Airport for its annual TAA charity fundraising event during October 2001, for compensation or hire, without complying with certain anti-drug and alcohol misuse prevention requirements of part 135. Grant, 09/04/2001, Exemption No. 7617.

Docket No.: FAA-2001-9195 (previously Docket No. 27491).

Petitioner: Helicopter Association International and the Association of Air Medical Services.

Section of 14 CFR Affected: 14 CFR 135.213(a).

Description of Relief Sought/Disposition: To permit HAI and AAMS members who are part 135 certificate holders that conduct helicopter emergency medical service (EMS) operations to conduct EMS departures under instrument flight rules in weather that is at or above visual flight rules minimums from airports or helicopters at which a weather report is not available from the U.S. National Weather Service (NWS), a source approved by the NWS, or a source approved by the Administrator. Grant, 08/23/2001, Exemption No. 6175C.

Docket No.: FAA-2001-9367 (previously Docket No. 26919).

Petitioner: Kalamazoo Aviation History Museum.

Section of 14 CFR Affected: 14 CFR 45.25 and 45.29.

Description of Relief Sought/Disposition: To permit the Museum to operate its Ford Tri-motor, Model No. 5-AT-C aircraft (Registration No. N8149; Serial No. 58) with 3-inch-high nationality and registration marks located on each side of the fuselage under the leading edge of the horizontal stabilizer. Grant, 09/04/2001, Exemption No. 5519D.

Docket No.: FAA-2001-10075 (previously Docket No. 28559).

Petitioner: Rockwell Collins, Inc.

Section of 14 CFR Affected: 14 CFR 21.327(a).

Description of Relief Sought/Disposition: To permit Rockwell to use a printout from its Order Management System for a Class II product instead of the Application for Export Certificate of Airworthiness (Form 8130-1.) Grant, 08/31/2001, Exemption No. 6604C.

Docket No.: FAA-2001-9352 (previously Docket No. 18881).

Petitioner: International Aerobatic Club, a division of the Experimental Aircraft Association.

Section of 14 CAR Affected: 14 CAR 91.151(a)(1).

Description of Relief Sought/Disposition: To permit the MAC and MAC members participating in MAC-sponsored and/or -sanctioned Aerobatic competitions conducted in accordance with MAC Official Contest Rules, to begin flight in an airplane, considering local conditions affecting fuel consumption, when there is enough fuel aboard the aircraft to take off, complete the planned flight maneuvers, and land at the same airport with enough fuel to fly for an additional 10 minutes at normal cruising speed. Grant, 08/31/2001, Exemption No. 5745D.

Docket No.: FAA-2001-10266.

Petitioner: Piedmont Southern Air Freight, Inc.

Section of 14 CAR Affected: 14 CAR 135.143(c)(2).

Description of Relief Sought/Disposition: To permit Piedmont to operate certain aircraft under part 135 without a TAO-C112 (Mode S) transponder installed in the aircraft. Grant, 08/29/2001, Exemption No. 7615.

[FR Doc. 01-23776 Filed 9-21-01; 8:45 am]

BILLING CODE 4910-13-M